SECURITIES AND EXCHANGE COMMISSION

17 CFR Part 240

[Release No. 34-44992A; File No. S7-26-98]

RIN 3235-AH04

Books and Records Requirements for Brokers and Dealers Under the Securities Exchange Act of 1934

AGENCY: Securities and Exchange Commission.

ACTION: Final rule; correction.

SUMMARY: This document contains corrections to the amendments to the books and records requirements for brokers and dealers under the Securities Exchange Act of 1934 that were published on November 2, 2001. The corrections contained herein redesignate two paragraphs that were incorrectly numbered and amend references to those two paragraphs to reflect that change.

EFFECTIVE DATE: May 2, 2003.

FOR FURTHER INFORMATION CONTACT: Bonnie L. Gauch, Attorney, at (202) 942-0765, in the Division of Market Regulation, Securities and Exchange Commission, 450 5th Street, NW., Washington, DC 20549-1001.

SUPPLEMENTARY INFORMATION:

I. Background

Rules 17a-3 and 17a-4 ¹ under the Securities Exchange Act of 1934 ² (the “Exchange Act”) (hereinafter the “Books and Records rules”), specify minimum requirements with respect to the records that broker-dealers must make, and how long those records and other documents relating to a broker-dealer's business must be kept. The Securities and Exchange Commission (the “Commission”) amended the Books and Records rules on October 26, 2001.³

¹ 17 CFR 240.17a-3 and 240.17a-4.

² 17 U.S.C. 78, et al.

³ Securities Exchange Act Release No. 44992, 66 FR 55818 (Nov. 2, 2001) (the “Adopting Release”).

II. Need for Correction

As published, the amendments to the Books and Records rules contain a rule designation which was designated by another final rule. In the final rules regarding the applicability of CFTC and SEC customer protection, recordkeeping, reporting, and bankruptcy rules and the Securities Investor Protection Act of 1970 to Accounts Holding Security Futures Products, published on Friday, September 13, 2002, new paragraph (f) to rule 17a-3 was adopted and became effective immediately upon publication. The amendments to the Books and Records rules erroneously also designated a new paragraph (f) of rule 17a-3.⁴ This correction redesignates the paragraph 17a-3(f) contained in the amendments to the Books and Records rules as paragraphs 17a-3(g) and makes other necessary changes throughout the release text and final rules to facilitate this change.

⁴ 67 FR 58284 (Sept. 13, 2002).

III. Correction of Publication

Accordingly, the final rule FR Doc. 01-27439 published on November 2, 2001 (66 FR 55818), is corrected as follows:

1. On page 55838, column 1, amenditory instruction 3.e., second line, revise the reference “(f) and (g)” to read “(g) and (h)”;

2. On page 55838, column 2, paragraph (12)(i), fourth line, revise the reference “paragraph (g)(4)” to read “paragraph (h)(4)”;

3. On page 55839, column 3, paragraphs (f) and (g) are redesignated as paragraphs (g) and (h).

4. On page 55841, column 1, paragraph (k), third line, revise the reference “§ 240.17a-3(f)” to read “§ 240.17a-3(g)”;

5. On page 55841, column 1, paragraph (l)(1), second line, revise the reference “§ 240.17a-3(g)(1)” to read “§ 240.17a-3(h)(1)”;

6. On page 55841, column 1, paragraph (l)(2), second line, revise the reference “§ 240.17a-3(g)(2)” to read “§ 240.17a-3(h)(2)”;

7. On page 55841, column 1, paragraph (l)(3), third line, revise the reference “§ 240.17a-3(g)(3)” to read “§ 240.17a-3(h)(3)”; and

8. On page 55841, column 2, paragraph (l)(4), beginning on line two, revise the reference “§ 240-17a-3(g)(4)” to read “§ 240.17a-3(h)(4)”.

Dated: March 26, 2003.
Jill M. Peterson,
Assistant Secretary.

[FR Doc. 03-7614 Filed 3-28-03; 8:45 am]

BILLING CODE 8010-01-P